DEPARTMENT OF THE INTERIOR

Minerals Management Service

Minerals Management Service Request for Public Nominations to the Royalty Policy Committee

AGENCY: Minerals Management Service, Interior.

ACTION: Request for nominations.

SUMMARY: The Director of the Minerals Management Service (MMS), an agency of the U.S. Department of the Interior, is requesting nominations for three public representatives to serve on the Department's Royalty Policy Committee (RPC). These nominations may originate from State and local governments, universities, organizations, or individuals, and they may include self-nominations. Nominees should have the expertise in royalty management issues necessary to represent the public interest. The nomination package must include an updated copy of the nominee's resume or biography including their mailing and e-mail addresses. The MMS is committed to the Department's diversity policy, and nominators are requested to consider diversity when making nominations. Members serve without pay but will be reimbursed for travel expenses incurred when attending official RPC meetings. Reimbursements will be calculated in accordance with the Federal Travel Regulations as implemented by the Department.

DATES: Submit nominations on or before June 16, 2004.

ADDRESSES: Submit nominations to Gary Fields, Coordinator, Royalty Policy Committee, Minerals Revenue Management, Minerals Management Service, P.O. Box 25165, MS 300B2, Denver, CO 80225-0165.

FOR FURTHER INFORMATION CONTACT: Gary Fields, Program Analysis Office, Minerals Revenue Management, Minerals Management Service, P.O. Box 25165, MS 300B2, Denver, CO 80225-0165, telephone number (303) 231-3102, fax number (303) 231-3194, e-mail gary.fields@mms.gov.

SUPPLEMENTARY INFORMATION: To increase effectiveness, reduce costs, and promote fresh ideas, the MMS created three charter committees under the Federal Advisory Committee Act to advise the Secretary and top Department officials on minerals policy and operational issues. The RPC, the Outer Continental Shelf (OCS) Policy Committee, and the OCS Scientific Committee now fulfill the formal advisory functions previously performed by the Minerals Management Advisory Board, which has been disbanded. The RPC provides advice related to the performance of discretionary functions under the laws governing the Department's management of Federal and Indian mineral leases and revenues. The RPC reviews and comments on revenue management and other mineral-related policies and provides a forum to convey views representative of mineral lessees, operators, revenue payors, revenue recipients, governmental agencies, and the interested public. The locations and dates of future RPC meetings and other information will be published in the Federal Register and posted on the Internet at http://www.mrm.mms.gov/Laws_R_D/RoyPC/RoyPC.htm. Meetings are open to the public without advance registration, on a space available basis. The public may make statements during the meetings, to the extent time permits, and file written statements with the RPC for its consideration; copies of these written statements should be submitted to Mr. Fields. The RPC meetings are conducted under the authority of the Federal Advisory Committee Act (Pub. L. 92-463, 5 U.S.C., Appendix 1) and the Office of Management and Budget (Circular No. A-63, revised).

All correspondence, records, or information received in response to this Notice are subject to disclosure under the Freedom of Information Act. All information provided will be made public unless the respondent identifies which portions are proprietary. Please highlight the proprietary portions or mark the page(s) that contain proprietary data. Proprietary information is protected by the Federal Oil and Gas Royalty Management Act of 1982 (30 U.S.C. 1733), the Freedom of Information Act (5 U.S.C. 552(b)(4)), the Indian Minerals Development Act of 1982 (25 U.S.C. 2103) and Department regulations (43 CFR part 2).

Dated: May 11, 2004.
Cathy J. Hamilton,
Acting Associate Director for Minerals Revenue Management.

[FR Doc. 04-11100 Filed 5-14-04; 8:45 am]

BILLING CODE 4310-MR-P